DEPARTMENT OF HEALTH AND HUMAN SERVICES

National Institutes of Health

Center for Scientific Review; Amendment Notice of Meeting

Notice is hereby given of a change in the meeting of the Center for Scientific Review Special Emphasis Panel, November 15, 2004, 8:30 a.m. to November 16, 2004, 12 p.m., One Washington Circle Hotel, One Washington Circle, Washington, DC, 20037 which was published in the Federal Register on November 3, 2004, 69 FR 64078-64081.

The meeting will be held December 9, 2004 to December 10, 2004. The meeting time and location remain the same. The meeting is closed to the public.

Dated: November 18, 2004.
LaVerne Y. Stringfield,
Director, Office of Federal Advisory Committee Policy.

[FR Doc. 04-26251 Filed 11-26-04; 8:45 am]

BILLING CODE 4140-01-M